DEPARTMENT OF DEFENSE

Corps of Engineers, Department of the Army

Intent to Prepare a Draft Environmental Impact Statement for the Proposed Port of Vancouver Columbia Gateway Project in the State of Washington

AGENCY: U.S. Army Corps of Engineers, DOD.

ACTION: Notice of intent.

SUMMARY: The U.S. Army Corps of Engineers (Corps) is initiating the preparation of an Environmental Impact Statement under the National Environmental Policy Act (NEPA). The EIS is for a Department of the Army permit issued under Section 404 of the Clean Water Act and Section 10 of the Rivers and Harbors Act to install the infrastructure necessary to support an approximately 500-acre development of water dependent and industrial facilities at the Port of Vancouver.

FOR FURTHER INFORMATION CONTACT: Ms. Janice Stuart, Project Manager, Portland District, Corps of Engineers, CENWP-OD-G, 333 SW. First Avenue, P.O. Box 2946, Portland, Oregon 97208-2946, phone: (503) 808-4393.

SUPPLEMENTARY INFORMATION: The Port of Vancouver has submitted an application to the Corps for a Department of the Army permit to develop a multi-faceted port facility that would create economic development opportunities for water dependent and industrial facilities at the Port of Vancouver. These facilities are necessary to generate increased employment opportunities for Vancouver area residents and enhance the import and export opportunities within the Lower Columbia River region.

The proposed action would require the discharge of dredged or fill material into waters of the United States, including wetlands, under Section 404 of the Clean Water Act and affect navigable waters of the United States under Section 10 of the Rivers and Harbors Act. Before making permitting decisions, the Corps is required to evaluate potential effects on the human environment under the National Environmental Policy Act (NEPA).

The Corps will also need to demonstrate compliance with Endangered Species Act and the National Historic Preservation Act before a permit can be issued. The proposed action must also be reviewed by the City of Vancouver for Compliance with the Washington State Growth Management Act, Shoreline Management Act, State Environmental Policy Act (SEPA) and City of Vancouver Development Code. This EIS is intended to meet the requirements for SEPA compliance. Alternatives to be evaluated in the EIS include No Action and development of approximately 500 acres of Port-owned property adjacent to the Columbia River. Significant issues to be analyzed in the EIS include effects the proposed action may have on wetlands, endangered species, air quality, water quality and quantity, noise, transportation, and public facilities.

The railroad improvements to serve the existing facilities at the Port of Vancouver and the NW 26th Avenue extension will be analyzed under separate NEPA processes. Both projects are independent of the development of Columbia Gateway.

The Corps will conduct a public scoping meeting for this EIS on September 12, 2006, 4 to 7 p.m. at the Port of Vancouver, 3103 NE. Lower River Road, Vancouver, Washington. Affected Federal, state, and local agencies; Indian tribes; and other interested organizations and individuals are asked to provide input to the Corps on the scope of this EIS. To ensure consideration, input on the scope should be provided to the Corps by September 25, 2006. The Corps will provide notice to the public of additional opportunities for public input on the EIS during review periods for the draft and final EIS. The draft EIS is currently scheduled to be available for public review Summer 2007.

Dated: August 17, 2006.
Lawrence C. Evans,
Chief, Regulatory Branch, Portland District.

[FR Doc. E6-14216 Filed 8-25-06; 8:45 am]

BILLING CODE 3710-AR-P